DEPARTMENT OF COMMERCE

National Oceanic and Atmospheric Administration

50 CFR Part 660

[Docket No. 001226367-01; I.D. 081501A]

Fisheries off West Coast States and in the Western Pacific; Pacific Coast Groundfish Fishery; End of the Primary Season and Resumption of Trip Limits for the Shore-based Fishery for Pacific Whiting

AGENCY: National Marine Fisheries Service (NMFS), National Oceanic and Atmospheric Administration (NOAA), Commerce.

ACTION: Fishing restrictions; request for comments.

SUMMARY: NMFS announces the end of the 2001 primary season for the shore-based fishery for Pacific whiting (whiting) and resumption of per-trip limits at 12 noon local time (l.t.) August 21, 2001, because the allocation is projected to be reached by that time. This action is intended to keep the harvest of whiting at the 2001 allocation levels.

DATES: Effective from 12 noon l.t. August 21, 2001, until the effective date of the 2002 specification and management measures for the Pacific Coast groundfish fishery which will be published in the Federal Register, unless modified, superseded or rescinded. Comments will be accepted through September 10, 2001.

ADDRESSES: Submit comments to Donna Darm, Acting Administrator, Northwest Region (Regional Administrator), NMFS, 7600 Sand Point Way NE., Seattle, WA 98115-0070; or Rod McInnis, Acting Regional Administrator, Southwest Region, NMFS, 501 West Ocean Blvd., Suite 4200, Long Beach, CA 90802-4213.

FOR FURTHER INFORMATION CONTACT: Becky Renko at 206-526-6110.

SUPPLEMENTARY INFORMATION: This action is authorized by regulations implementing the Pacific Coast Groundfish Fishery Management Plan (FMP), which governs the groundfish fishery off Washington, Oregon, and California. On January 11, 2001 (66 FR 2338), the levels of allowable biological catch (ABC), the optimum yield (OY) and the commercial OY (the OY minus the tribal allocation) for U.S. harvests of whiting were announced in the Federal Register. For 2001 the whiting ABC and OY are 190,400 metric tons (mt) and the commercial OY is 162,900 mt.

Regulations at 50 CFR 660.323(a)(4) divide the commercial OY into separate allocations for the catcher/processor, mothership, and shore-based sectors of the whiting fishery. The 2001 allocations, based on the 2001 commercial OY, are 55,386 mt (34 percent) for the catcher/processor sector, 39,096 mt (24 percent) for the mothership sector, and 68,418 mt (42 percent) for the shore-based sector. When each sector's allocation is reached, the primary season for that sector is ended.

The shore-based sector is composed of vessels that harvest whiting for delivery to land-based processors. The regulations at 50 CFR 660.323 (a)(3)(i) describe the primary season for the shore-based sector as the period(s) when the large-scale target fishery is conducted (when trip limits under § 660.323(b) are not in effect). Before and after the primary seasons, per-trip limits are in effect for whiting.

The best available information on August 21, 2001, indicates that 64,641 mt had been taken through August 18, 2001, and that the 68,418 mt shore-based allocation would be reached by 12 noon August 21, 2001. This Federal Register document announces the date that the primary season for the shore-based sector ends, and that per-trip limits are imposed. The per-trip limit is intended to accommodate small bait and fresh fish markets and bycatch in other fisheries. To minimize incidental catch of chinook salmon by vessels fishing shoreward of the 100 fm (183 m) contour in the Eureka area, at any time during a fishing trip, a limit of 10,000-lb (4,536 kg) of whiting is in effect year-round (unless landings of whiting are prohibited).

NMFS Action

For the reasons stated here, and in accordance with the regulations at 50 CFR 660.323(a)(4)(iii)(C), NMFS herein announces:

Effective 12 noon l.t. August 21, 2001, no more than 20,000-lb (9,072-kg) of whiting may be taken and retained, possessed or landed by a catcher vessel participating in the shore-based sector of the whiting fishery. If a vessel fishes shoreward of the 100 fm (183 m) contour in the Eureka area (43° - 40° 30′ N. lat.) at any time during a fishing trip, the 10,000-lb (4,536-kg) trip limit applies, as announced in the annual management measures at paragraph IV, B (3)(c)(ii).

Classification

This action is authorized by the regulations implementing the FMP. The determination to take this action is based on the most recent data available. The aggregate data upon which the determination is based are available for public inspection at the Office of the Regional Administrator (see ADDRESSES) during business hours. This action is taken under the authority of 50 CFR 660.323(a)(4)(iii)(C) and is exempt from review under Executive Order 12866.

Authority: 16 U.S.C. 1801 et seq.

August 20, 2001.
Bruce C. Morehead,
Acting Director, Office of Sustainable Fisheries, National Marine Fisheries Service.

[FR Doc. 01-21486 Filed 8-21-01; 3:07 pm]

BILLING CODE 3510-22-S